DEPARTMENT OF THE INTERIOR

Bureau of Indian Affairs

Land Acquisitions; Snoqualmie Tribe of Washington

AGENCY: Bureau of Indian Affairs, Interior.

ACTION: Notice of final agency determination to take land into trust under 25 CFR Part 151.

SUMMARY: The Associate Deputy Secretary made a final agency determination to acquire approximately 55.84 acres of land into trust for the Snoqualmie Tribe of Washington on January 13, 2006. This notice is published in the exercise of authority delegated by the Secretary of the Interior to the Associate Deputy Secretary.

FOR FURTHER INFORMATION CONTACT: George Skibine, Office of Indian Gaming Management, Acting Deputy Assistant Secretary—Policy and Economic Development, MS-4600 MIB, 1849 C Street, NW., Washington, DC 20240; Telephone (202) 219-4066.

SUPPLEMENTARY INFORMATION: This notice is published to comply with the requirement of 25 CFR Part 151.12(b) that notice be given to the public of the Secretary's decision to acquire land in trust at least 30 days prior to signatory acceptance of the land into trust. The purpose of the 30-day waiting period in 25 CFR Part 151.12(b) is to afford interested parties the opportunity to seek judicial review of final administrative decisions to take land in trust for Indian tribes and individual Indians before transfer of title to the property occurs. On January 13, 2006, the Associate Deputy Secretary decided to accept approximately 55.84 acres of land into trust for the Snoqualmie Tribe of Washington under the authority of the Indian Reorganization Act of 1934, 25 U.S.C. 465. The 55.84 parcel is located in King County, Washington. The parcel will be used for the purpose of construction and operation of a class III gaming facility.

The real property consists of a 55.84 acre tract located in King County, Washington. The legal description of the property is as follows:

Lot 1, Block 3 of the unrecorded plat of Si-View acre tracts, more particularly described as follows: Beginning at a point on the south line of the NW. quarter of section 31, Township 24 North, Range 8 East, Willamette Meridian, in King County, Washington, 750.75 feet South 88 degrees 51′11″ West of the SE corner of said NW. quarter, thence South 88 degrees 51′11″ West, 660.36 feet; thence North 3 degrees 02′25″ West 308.18 feet; thence North 86 degrees 57′35″ East, 660.00 feet to the west line of a 60.0 foot street; thence South 3 degrees 02′25″ East along said street, 330.0 feet to the point of beginning;

Except that portion of Lot 1, Block 3 of the unrecorded plat of Si-View acre tracts, in Section 31, Township 24 North, Range 8 East, Willamette Meridian, in King County, Washington, described as follows: Beginning at the NE. corner of the above described Lot 1; thence South 86 degrees 57′35″ West a distance of 311.14 feet along the north boundary of said Lot 1; thence South 3 degrees 02′25″ East a distance of 140.00 feet; thence North 86 degrees 57′35″ East a distance of 311.14 feet to the east boundary line of said Lot 1; thence North 3 degrees 02′25″ West a distance of 140.00 feet along the east boundary of said Lot 1 to the point of beginning.

And, all of Government Lot 3 and that portion of Government Lot 4, lying northerly of the north margin of SR 90 (State Highway Number 2); section 31, township 24 North, Range 8 East, Willamette Meridian, King County, Washington.

Containing a total of 55.84 acres, more or less.

Dated: January 13, 2006.
James E. Cason,
Associate Deputy Secretary.

[FR Doc. E6-1198 Filed 1-30-06; 8:45 am]

BILLING CODE 4310-4N-P